DEPARTMENT OF ENERGY

Federal Energy Regulatory Commission

[Docket No. CP01-5-003]

Algonquin Gas Transmission Company Notice of Amendment

February 13, 2003.

Take notice that on February 5, 2003, Algonquin Gas Transmission Company (Algonquin), 5400 Westheimer Court, Houston, Texas 77056-5310, filed in Docket No. CP01-5-003, an application, pursuant to Section 7(c) of the Natural Gas Act and part 157 of the Federal Energy Regulatory Commission's regulations to amend the certificate of public convenience and necessity issued December 21, 2001, in Docket No. CP01-5-000, as amended June 4, 2002, in Docket No. CP01-5-002, for Algonquin's HubLine project, as more fully described in the application. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Specifically, Algonquin requests authorization to construct approximately 6.64 miles of 24-inch pipeline and 0.31 miles of 8-inch pipeline extending from the terminus of the originally certificated Deer Island Lateral portion of Algonquin's HubLine project across Boston Harbor through portions of East Boston, Chelsea, and Everett, Massachusetts to a connection with Algonquin's existing J-System. Algonquin also proposes to construct three meter stations and other related facilities. Algonquin refers to the proposed new facilities as the Everett Extension project, while referring to the Everett Extension project and the Deer Island Lateral, collectively, as HubLine Phase II. The total cost of the HubLine Phase II facilities is estimated to be approximately $110 million.

Algonquin also requests authorization to implement a revised initial incremental surcharge for service on the entire HubLine Phase II facilities in lieu of the previously approved rate for service solely on the Deer Island Lateral. Algonquin states that firm transportation service will be rendered to HubLine Phase II shippers pursuant to Algonquin's Rate Schedule AFT-1. Algonquin proposes no change to the previously approved surcharge for service on the HubLine mainline facilities.

Algonquin requests that the Commission issue a final certificate granting the authorizations requested on or before December 15, 2003, in order to place the HubLine Phase II facilities into service in a time frame consistent with that of the shippers who have requested service on such facilities. Relatedly, Algonquin has requested an extension of the originally authorized time to construct and place into service the Deer Island Lateral to coincide with that of the Everett Extension project, thereby enabling Algonquin to construct the HubLine Phase II facilities at one time.

Any questions regarding this application should be directed to Mr. Steven E. Tillman, General Manager, Regulatory affairs, Algonquin Gas Transmission Company, P.O. Box 1642, Houston, Texas 77251-1642, or call (713) 627-5113 or FAX (713) 627-5947.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process.

Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project.

This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: March 6, 2003.

Magalie R. Salas,
Secretary.

[FR Doc. 03-4112 Filed 2-19-03; 8:45 am]

BILLING CODE 6717-01-P